DEPARTMENT OF COMMERCE

National Oceanic and Atmospheric Administration

[RTID 0648-XC957]

New England Fishery Management Council; Public Meeting

AGENCY: National Marine Fisheries Service (NMFS), National Oceanic and Atmospheric Administration (NOAA), Commerce.

ACTION: Notice of public meeting.

SUMMARY: The New England Fishery Management Council (Council) is scheduling a joint public meeting of its Monkfish and Dogfish Committees via webinar to consider actions affecting New England fisheries in the exclusive economic zone (EEZ). Recommendations from this group will be brought to the full Council for formal consideration and action, if appropriate.

DATES: This webinar will be held on Wednesday, May 17, 2023, at 9:30 a.m. Webinar registration URL information: https://attendee.gotowebinar.com/register/3037065951232152662.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Monkfish and Dogfish Committees will meet to discuss recommendations from the Sturgeon Bycatch Fishery Management Action Team/Plan Development Team and the Joint Monkfish and Dogfish Advisory Panel. They will discuss potential measures to reduce bycatch of Atlantic sturgeon in the monkfish and spiny dogfish gillnet fisheries, developed from the recommendations in NOAA's Action Plan to Reduce Atlantic Sturgeon Bycatch in Federal Large-Mesh Gillnet Fisheries. They will also discuss the range of alternatives recommended to the Councils (New England and Mid-Atlantic) to be considered for reducing bycatch of Atlantic sturgeon in the monkfish and spiny dogfish gillnet fisheries. Other business may be discussed, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: April 26, 2023.
Rey Israel Marquez,
Acting Deputy Director, Office of Sustainable Fisheries, National Marine Fisheries Service.

[FR Doc. 2023-09146 Filed 4-28-23; 8:45 am]

BILLING CODE 3510-22-P